DEPARTMENT OF DEFENSE

Department of the Air Force

Community College of the Air Force

AGENCY: Department of the Air Force, DoD.

ACTION: Notice of meeting.

SUMMARY: The Community College of the Air Force (CCAF) Board of Visitors will hold a meeting to review and discuss academic policies and issues relative to the operation of the college. Agenda items include a review of the operations of the CCAF and an update on the activities of the CCAF Policy Council. Members of the public who wish to make oral or written statements at the meeting should contact Second Lieutenant Richard W. Randolph, Designated Federal Officer for the Board, at the address below no later than 4 p.m. on 8 April 2003. Please mail or electronically mail all requests. Telephone requests will not be honored. The request should identify the name of the individual who will make the presentation and an outline of the issues to be addressed. At least 35 copies of the presentation materials must be given to Second Lieutenant Randolph no later than three days prior to the time of the board meeting for distribution. Visual aids must be submitted to Second Lieutenant Richard Randolph on a 3½″ computer disk in Microsoft PowerPoint format no later than 4 p.m. on 8 April 2003 to allow sufficient time for virus scanning and formatting of the slides.

DATES: April 15, 2003, 8 a.m.

ADDRESSES: Community College of the Air Force, First floor Conference room, 130 West Maxwell Boulevard, Maxwell Air Force Base, AL 36112.

FOR FURTHER INFORMATION CONTACT: Second Lieutenant Richard W. Randolph, (334) 953-7322, Community College of the Air Force, 130 West Maxwell Boulevard, Maxwell Air Force Base, AL 36112-6613, or through electronic mail at richard.randolph@maxwell.af.mil.

Pamela D. Fitzgerald,
Air Force Federal Register Liaison Officer.

[FR Doc. 03-2179 Filed 1-29-03; 8:45 am]

BILLING CODE 5001-05-M